DEPARTMENT OF THE INTERIOR

Bureau of Ocean Energy Management

[BOEM-2014-0085; MMAA104000]

Outer Continental Shelf, 2017-2022 Oil and Gas Leasing Program

AGENCY: Bureau of Ocean Energy Management (BOEM), Interior.

ACTION: Notice of additional public scoping meetings for the programmatic Environmental Impact Statement (EIS) on the 2017-2022 Oil and Gas Leasing Program.

SUMMARY: The Bureau of Ocean Energy Management is announcing three additional public scoping meetings for the EIS on the 2017-2022 Oil and Gas Leasing Program.

Additional Scoping Meetings

Kill Devil Hills, North Carolina

○ March 16, 2015; Ramada Plaza Nags Head Oceanfront, 1701 S. Virginia Dare Trail, Kill Devil Hills, North Carolina; 3:00-7:00 p.m.; free parking.

Atlantic City, New Jersey

○ March 18, 2015; Sheraton Atlantic City, 2 Convention Blvd., Atlantic City, New Jersey; 3:00-7:00 p.m.; validated participant parking at hotel.

Savannah, Georgia

○ March 24, 2015; Hyatt Regency Savannah, Two West Bay St., Savannah, Georgia; 3:00-7:00 p.m.; validated participant parking at hotel.

DATES: Comments should be submitted by March 30, 2015. Please see boemoceaninfo.com/get-involved/comments/ or www.regulations.gov (search “BOEM-2014-0085”) for information on how to comment.

FOR FURTHER INFORMATION CONTACT: For information on the EIS, the submission of comments, or BOEM's policies associated with this Notice, please contact Mr. Geoffrey L. Wikel, Acting Chief, Division of Environmental Assessment, Office of Environmental Programs, Bureau of Ocean Energy Management (HM 3107), 381 Elden Street, Herndon, VA 20170-4817, telephone (703) 787-1283.

SUPPLEMENTARY INFORMATION: On January 29, 2015, BOEM published a Notice of Intent to prepare an EIS under the National Environmental Policy Act (NEPA), as amended (42 U.S.C. 4321 et seq.) to inform decisions that will be made during the preparation and implementation of the 2017-2022 Oil and Gas Leasing Program (2017-2022 Program) (80 FR 4939). The EIS will analyze the potential direct, indirect, and cumulative impacts of possible outer continental shelf oil and gas activities that could result from lease sales proposed under the 2017-2022 Program. The scope of the EIS will be based on the 2017-2022 Draft Proposed Program (DPP) after consideration of public input received during the scoping period for the EIS (for details, see the DPP at http://www.boem.gov/Five-Year-Program/). The January 29, 2015, announcement included a schedule of EIS public scoping meetings, providing dates and locations, and this Notice is adding three new meetings.

Authority: This Notice is published pursuant to the regulations (40 CFR 1501.7) implementing the provisions of NEPA.

Dated: March 2, 2015.
Abigail Ross Hopper,
Director, Bureau of Ocean Energy Management.

[FR Doc. 2015-05107 Filed 3-5-15; 8:45 am]

BILLING CODE 4310-MR-P